DEPARTMENT OF AGRICULTURE

Food Safety Inspection Service

[Docket No. FSIS 2010-0008]

Improving Tracing Procedures for E. coli O157:H7 Positive Raw Beef Product

AGENCY: Food Safety and Inspection Service (FSIS), USDA.

ACTION: Notice of public meeting.

SUMMARY: The Food Safety and Inspection Service (FSIS) is announcing that it will hold a public meeting on March 10, 2010 to discuss Agency procedures for identifying suppliers of source material used to produce raw beef product that FSIS has found positive for Escherichia coli (E. coli) O157:H7. FSIS will also discuss additional verification activities the Agency will conduct at suppliers in response to positive E. coli O157:H7 results. In addition, FSIS will seek input from meeting participants on ways to improve Agency procedures for identifying product that may be positive for E. coli O157:H7.

DATES: The public meeting will be held on March 10, 2010, from 8:30 a.m. to 1 p.m. Submit comments on or before May 7, 2010.

ADDRESSES: The public meeting will be held in the USDA South Building Jefferson Auditorium, 1400 Independence Avenue, SW., Washington, DC 20250. All participants should enter the USDA South Building at Wing 5 on Independence Avenue. There will security personnel at the entrance to check identification.

Registration: Pre-registration is recommended. To pre-register, visit the FSIS Web site at: http://www.fsis.usda.gov/News/Meetings_&_Events/. You can click on register and then complete the registration form including all required fields.

Comments and Agenda: In addition to providing oral comments at the public meeting, FSIS invites interested persons to submit written comments on the issues addressed at the public meeting. FSIS will finalize an agenda on or before the meeting date and will post it on the FSIS Web page http://www.fsis.usda.gov/News/Meetings_&_Events/. The official transcript of the meeting will be available for viewing by the public in the FSIS Docket Room and on the FSIS Web site http://www.fsis.usda.gov/News/Meetings_&_Events/ when it becomes available.

Comments may be submitted by either of the following methods:

Federal eRulemaking Portal: This Web site provides the ability to type short comments directly into the comment field on this Web page or attach a file for lengthier comments. Go to http://www.regulations.gov. Follow the online instructions at that site for submitting comments.

Mail, including floppy disks or CD-ROMs, and hand- or courier-delivered items: Send to Docket Clerk, U.S. Department of Agriculture (USDA), FSIS, Room 2-2127, George Washington Carver Center, 5601 Sunnyside Avenue, Mailstop 5474, Beltsville, MD 20705-5474.

Instructions: All items submitted by mail or electronic mail must include the Agency name and docket number FSIS-2010-0008. Comments received in response to this docket will be made available for public inspection and posted without change, including any personal information to http://www.regulations.gov.

Docket: For access to background documents or to comments received, go to the FSIS Docket Room at the address listed above between 8:30 a.m. and 4:30 p.m., Monday through Friday. All comments submitted in response to this proposal, as well as background information used by FSIS in developing this document, will be available for public inspection in the FSIS Docket Room at the address listed above between 8:30 a.m. and 4:30 p.m., Monday through Friday.

FOR FURTHER INFORMATION CONTACT: For logistical questions related to the meeting: Ms. Sheila Johnson, Congressional and Public Affairs, 1400 Independence Avenue, SW., Washington, DC 20250, 202-690-6498, e-mail: Sheila.Johnson@fsis.usda.gov.

For technical information related to the meeting: Dr. Daniel Engeljohn, Deputy Assistant Administrator, Office of Policy and Program Development, 1400 Independence Avenue, SW., Washington, DC 20250-3700, (202) 205-0495.

SUPPLEMENTARY INFORMATION: FSIS is evaluating the effectiveness of its policies and procedures in responding to findings that raw beef is positive for E. coli O157:H7, and whether the Agency takes the appropriate steps to identify source materials used to produce the product and to identify other products derived from those source materials. One conclusion reached by FSIS thus far is that the Agency must improve its procedures for assessing the conditions at suppliers that may have resulted in the positive product.

FSIS has also concluded that it should conduct additional verification activities at suppliers that produced source materials for raw beef product that FSIS has found positive for E. coli O157:H7. Therefore, FSIS intends to issue new instructions to Enforcement, Investigations, and Analysis Officers (EIAOs) to conduct additional verification activities at suppliers in response to positive E. coli O157:H7 results. These instructions are intended to assist EIAOs is assessing conditions at the suppliers, including whether source materials used to produce the positive raw beef product may have been produced during high event periods. High event periods are production periods during which an establishment's sampling and testing program detects a series of positive test results that indicates a systemic failure or breakdown of process controls. If FSIS personnel determine that the subject source materials were produced during high event periods, the Agency may determine that additional product is implicated by the positive result. FSIS will issue these new instructions after the public meeting.

At the meeting FSIS will discuss the Agency's E. coli O157:H7 test data, its current policies for responding to E. coli O157:H7 positives, the Agency's current thinking for improving those policies, and information regarding next steps. An opportunity for participants to comment will be provided as well.

Additional Public Notification

Public awareness of all segments of rulemaking and policy development is important. Consequently, in an effort to ensure that minorities, women, and persons with disabilities are aware of this notice, FSIS will announce it on-line through the FSIS Web page located at http://www.fsis.usda.gov/Regulations_&_Policies/2010_Notices_Index/index.asp. FSIS also will make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals and other individuals who have asked to be included. The Update is also available on the FSIS Web page. Through the Listserv and the Web page, FSIS is able to provide information to a much broader and more diverse audience. In addition, FSIS offers an e-mail subscription service which provides automatic and customized access to selected food safety news and information. This service is available at http://www.fsis.usda.gov/news_&_events/email_subscription/. Options range from recalls to export information to regulations, directives and notices. Customers can add or delete subscriptions themselves, and have the option to password protect their accounts.

Done at Washington, DC on: March 2, 2010.
Alfred V. Almanza,
Administrator.

[FR Doc. 2010-4781 Filed 3-5-10; 8:45 am]

BILLING CODE 3410-DM-P